DEPARTMENT OF LABOR

Employment and Training Administration

[TA-W-59,463]

Ash Grove Cement Company Rivergate Lime Plant; Portland, OR; Notice of Affirmative Determination Regarding Application for Reconsideration

By application dated July 24, 2006, a company official requested administrative reconsideration of the Department's Notice of negative determination regarding the subject worker group's eligibility to apply for Trade Adjustment Assistance (TAA) and Alternative Trade Adjustment Assistance (ATAA). The Department's determination was issued on June 12, 2006. The Department's Notice of determination was published in the Federal Register on July 14, 2006 (71 FR 40158).

In the request for reconsideration, the company official alleges that the subject firm supplied calcium oxide to a TAA-certified company.

The determination did not state whether the subject worker group is eligible to apply for TAA as workers of a secondarily-affected firm (a firm which supplied component parts for articles produced by a firm with a currently TAA-certified worker group).

The Department has carefully reviewed the request for reconsideration and has determined that the Department will conduct further investigation based on new information provided.

Conclusion

After careful review of the application, I conclude that the claim is of sufficient weight to justify reconsideration of the Department of Labor's prior decision. The application is, therefore, granted.

Signed at Washington, DC, this 7th day of August 2006.
Linda G. Poole,
Certifying Officer, Division of Trade Adjustment Assistance.

[FR Doc. E6-15743 Filed 9-25-06; 8:45 am]

BILLING CODE 4510-30-P